DEPARTMENT OF ENERGY

Federal Energy Regulatory Commission

[Docket No. AD11-9-000]

February 2011 Southwest Cold Weather Event Follow-up Technical Conference; Notice of Technical Conference

Take notice that the Federal Energy Regulatory Commission (Commission) will hold a technical conference on Tuesday, September 25, 2012 from 10 a.m. to 4 p.m. This conference will be led by Commission staff and will be held in the ERCOT Metro Center, 7620 Metro Center Drive, Austin, Texas 78744. The conference will be open for the public to attend.

The purpose of the conference is to discuss actions taken in response to the August 16, 2011 Report on Outages and Curtailments During the Southwest Cold Weather Event of February 1-5, 2011 that was prepared by the staffs of the Commission and the North American Electric Reliability Corporation. The conference will explore the progress made on the Report's recommendations and whether sufficient safeguards have been implemented to avert a repeat of the loss of generation due to severe cold weather issues that led to rolling blackouts affecting over 4 million customers and natural gas curtailments affecting an additional 50,000 customers.

Those interested in attending a conference are encouraged to register by close of business, September 18, 2012. You may register at the following Web page: https://www.ferc.gov/whats-new/registration/rt-09-27-12-form.asp.

The agenda for this conference will be issued at a later date. Information on this event will be posted on the Calendar of Events on the Commission's Web site, www.ferc.gov, prior to the event.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about this conference, please contact: Mark Hershfield, Office of External Affairs, Federal Energy Regulatory Commission, 888 First Street NE., Washington, DC 20426, (202) 502-8597, mark.hershfield@ferc.gov.

Dated: August 27, 2012.
Kimberly D. Bose,
Secretary.

[FR Doc. 2012-21661 Filed 8-31-12; 8:45 am]

BILLING CODE 6717-01-P